DEPARTMENT OF THE INTERIOR

Office of the Secretary

[156D0102DM DLSN00000.000000 DS61200000 DX61201]

Proposed Renewal of Information Collection: OMB Control Number 1090-0011, DOI Generic Clearance for the Collection of Qualitative Feedback on Agency Service Delivery

AGENCY: Department of the Interior.

ACTION: Notice and request for comments.

SUMMARY: In compliance with the Paperwork Reduction Act of 1995, the Office of the Secretary, Department of the Interior announces the proposed extension of a Generic Information Collection Request (Generic ICR): “DOI Generic Clearance for the Collection of Qualitative Feedback on Agency Service Delivery” and seeks public comments on the provisions thereof.

DATES: Consideration will be given to all comments received by May 18, 2015.

ADDRESSES: Mail or hand carry comments to the Department of the Interior; Office of Policy Analysis; Attention: Don Bieniewicz; Mail Stop 3530; 1849 C Street NW., Washington, DC 20240. If you wish to email comments, the email address is: Donald_Bieniewicz@ios.doi.gov. Reference “DOI Generic Clearance for the Collection of Qualitative Feedback on Agency Service Delivery, OMB Control Number: 1090-0011” in your email subject line. Include your name and return address in your email message and mark your message for return receipt.

FOR FURTHER INFORMATION CONTACT: To request a copy of the information collection request, any explanatory information and related forms, see the contact information provided in the ADDRESSES section above.

SUPPLEMENTARY INFORMATION:

I. Abstract

This notice is for renewal of information collection.

The Office of Management and Budget (OMB) regulations at 5 CFR part 1320, which implement the Paperwork Reduction Act of 1995, 44 U.S.C. 3501 et seq., require that interested members of the public and affected agencies have an opportunity to comment on information collection and recordkeeping activities (see 5 CFR 1320.8 (d)).

The information collection activity will garner qualitative customer and stakeholder feedback in an efficient, timely manner, in accordance with the Administration's commitment to improving service delivery. By qualitative feedback we mean information that provides useful insights on perceptions and opinions, but are not statistical surveys that yield quantitative results that can be generalized to the population of study. This feedback will provide insights into customer or stakeholder perceptions, experiences and expectations, provide an early warning of issues with service, or focus attention on areas where communication, training or changes in operations might improve delivery of products or services. These collections will allow for ongoing, collaborative and actionable communications between the Agency and its customers and stakeholders. It will also allow feedback to contribute directly to the improvement of program management.

Feedback collected under this generic clearance will provide useful information, but it will not yield data that can be generalized to the overall population. This generic clearance for qualitative information will not be used for quantitative information collections that are designed to yield reliably actionable results, such as monitoring trends over time or documenting program performance. Such data uses require more rigorous designs that address: the target population to which generalizations will be made, the sampling frame, the sample design (including stratification and clustering), the precision requirements or power calculations that justify the proposed sample size, the expected response rate, methods for assessing potential nonresponse bias, the protocols for data collection, and any testing procedures that were or will be undertaken prior to fielding the study.

II. Data

(1) Title: DOI Generic Clearance for the Collection of Qualitative Feedback on Agency Service Delivery.

OMB Control Number: 1090-0011.

Current Expiration Date: June 30, 2015.

Type of Review: Information Collection Renewal.

Affected Entities: Individuals and Households, Businesses and Organizations, State, Local or Tribal Government.

Expected Annual Number of Activities: 20.

Estimated annual number of respondents: 11,000 for surveys, 6,000 for comment cards, 500 for focus groups.

Frequency of responses: Once per request.

(2) Annual reporting and recordkeeping burden:

Average time per response: 15 minutes for surveys, 2 minutes for comment cards, 2 hours for focus groups.

Estimated total annual burden hours: 3,950 hours.

(3) Description of the need and use of the information: The information collection activity will garner qualitative customer and stakeholder feedback in an efficient, timely manner, in accordance with the Administration's commitment to improving service delivery. This feedback will provide insights into customer or stakeholder perceptions, experiences and expectations, provide an early warning of issues with service, or focus attention on areas where communication, training or changes in operations might improve delivery of products or services. These collections will allow for ongoing, collaborative and actionable communications between the Agency and its customers and stakeholders.

III. Request for Comments

The Department invites comments on:

(a) Whether the collection of information is necessary for the proper performance of the functions of the agencies, including whether the information will have practical utility;

(b) The accuracy of the agency's estimate of the burden of the collection of information and the validity of the methodology and assumptions used;

(c) Ways to enhance the quality, utility, and clarity of the information to be collected; and

(d) Ways to minimize the burden of the collection of information on respondents, including through the use of appropriate automated, electronic, mechanical, or other collection techniques or other forms of information technology.

“Burden” means the total time, effort, and financial resources expended by persons to generate, maintain, retain, disclose, or provide information to or for a Federal agency. This includes the time needed to review instructions; to develop, acquire, install, and use technology and systems for the purposes of collecting, validating, and verifying information, processing and maintaining information, and disclosing and providing information; to train

personnel and to be able to respond to a collection of information, to search data sources, and to complete and review the collection of information; and to transmit or otherwise disclose the information.

All written comments, with names and addresses, will be available for public inspection. If you wish us to withhold your personal information, you must prominently state at the beginning of your comment what personal information you want us to withhold. We will honor your request to the extent allowable by law. If you wish to view any comments received, you may do so by scheduling an appointment with the Department of the Interior; Office of Policy Analysis as indicated in the ADDRESSES section above. A valid picture identification is required for entry into the Department of the Interior.

Comments submitted in response to this notice will be summarized and/or included in the request for OMB approval of this information collection; they also will become a matter of public record.

An agency may not conduct or sponsor, and a person is not required to respond to, a collection of information unless it displays a currently valid Office of Management and Budget control number.

Dated: March 12, 2015.
Benjamin Simon,
Assistant Director, Office of Policy Analysis, U.S. Department of the Interior.

[FR Doc. 2015-06242 Filed 3-17-15; 8:45 am]

BILLING CODE 4334-63-P